DEPARTMENT OF TRANSPORTATION

Federal Railroad Administration

[Docket Number FRA-2001-10654]

Petition for Waiver of Compliance

Under part 211 of Title 49 of the Code of Federal Regulations (CFR), this document provides the public notice that on July 13, 2017, the Association of American Railroads (AAR) has petitioned the Federal Railroad Administration (FRA) for an extension and expansion of an existing waiver of compliance from certain provisions of the Federal railroad safety regulations contained at 49 CFR part 213. FRA assigned the petition docket number FRA-2001-10654.

AAR, on behalf of its member railroads, received permission from FRA to operate trains at Class 5 speeds over “heavy-point” frogs (HPF) with guard check gages conforming to the standards for Class 4 track frogs on April 22, 2003. AAR requested and was granted two extensions, dated February 25, 2008 and January 18, 2013. The current waiver will expire on January 18, 2018.

In the current petition, AAR requests an extension of the existing relief from 49 CFR 213.143—Frog guard rails and guard faces; gage, to continue operating trains at FRA Class 5 speeds over HPF with guard-check gage conforms to the standards prescribed for FRA Class 4 track frog guard check and face gage dimensions. In addition, AAR is requesting that FRA amend the waiver to include relief from 49 CFR 213.355—Frog guard rails and guard faces; gage to allow trains to operate at Class 6 speeds over HPF designs with guard-check gages conforming to the standards for Class 4 track frog guard check and face gage dimensions.

A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 6, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC, on August 17, 2017.
John Karl Alexy,
Director, Office of Safety Analysis.

[FR Doc. 2017-17738 Filed 8-21-17; 8:45 am]

BILLING CODE 4910-06-P